DEPARTMENT OF LABOR

Office of the Secretary

Senior Executive Service; Appointment of Members to the Performance Review Board

Title 5 U.S.C. 4314(c)(4) provides that Notice of the Appointment of the individual to serve as a member of the Performance Review Board of the Senior Executive Service shall be published in the Federal Register.

The following individuals are hereby appointed to serve on the Department's Performance Review Board:

Permanent Membership

Chair—Deputy Secretary—Christopher P. Lu

Vice-Chair—Assistant Secretary for Administration and Management—T. Michael Kerr

Alternate Vice-Chair—Director, Human Resources Center—Sydney T. Rose

Executive Secretary—Director, Executive Resources—Kim L.H. Green

Performance Officer—Director, Performance Management Center—Holly A. Donnelly

Rotating Membership—Appointments Expires on 09/30/16

BLS—Jay A. Mousa, Associate Commissioner for Office of Field Operations

BLS—Nancy F. Ruiz de Gamboa, Assistant Commissioner for Office of Administration

ETA—Leslie G. Range, Regional Administrator, Atlanta

MSHA—Patricia W. Silvey, Deputy Assistant Secretary for Operations

OASAM—Cheryl A. Greenaugh, Director, Chief Information Program Management Office

OASAM—Charlotte A. Hayes, Deputy Assistant Secretary for Policy

OASAM—Naomi M. Barry-Perez, Director, Civil Rights Center

OFCCP—Debra A. Carr, Division of Policy, Planning and Program Development

OFCCP—Diana S. Sen, Regional Director, New York

OLMS—Stephen J. Willertz, Director, Office of Enforcement and International Union Audits

OWCP—Antonio A. Rios, Director, Longshore and Harbor Workers'

Compensation Program

SOL—Michael D. Felsen, Regional Solicitor, Boston

SOL—Jeffrey L. Nesvet, Associate Solicitor for Employment and Training Legal Services

WB—Joan Y. Harrigan-Farrelly, Deputy Director

WHD—Patricia J. Davidson, Deputy Administrator, Office of Program Operations

For Further Information Contact: Ms. Kim L.H. Green, Director, Office of Executive Resources, Room N2453, U.S. Department of Labor, Frances Perkins Building, 200 Constitution Ave. NW., Washington, DC 20210, telephone: (202) 693-7642.

Signed at Washington, DC on 20th day of November.
Thomas E. Perez,
Secretary of Labor.

[FR Doc. 2014-27439 Filed 11-19-14; 8:45 am]

BILLING CODE 4510-23-P